DEPARTMENT OF ENERGY

Federal Energy Regulatory Commission

[Docket No. CP08-46-000]

Tarpon Whitetail Gas Storage, LLC; Notice of Public Scoping Meeting and Site Visit for the Proposed Whitetail Natural Gas Storage Project

January 30, 2008.

The staff of the Federal Energy Regulatory Commission (Commission) will conduct a public scoping meeting and site visit for the Whitetail Natural Gas Storage Project involving construction and operation of natural gas storage, pipeline, and compressor station facilities by Tarpon Whitetail Gas Storage, LLC (Whitetail) in Monroe County, Mississippi.

We invite you to attend the public scoping meeting beginning at 7 p.m. (CST) on Thursday evening, February 14, 2008, to provide environmental comments on the proposed project. Your input will help us determine the issues that need to be evaluated in the environmental assessment. The public scoping meeting will be held at: Monroe County Court House, 201 W. Commerce, Aberdeen, Mississippi 39730, Phone: 662-369-8143.

The Commission staff will also conduct a site visit of the location of the proposed facilities. The site visit will begin at approximately 1 p.m. (CST) on February 14, 2008. Anyone interested in participating in the site visit may attend; however, they must provide their own transportation. The Commission staff, company representatives, and interested participants will meet in the parking lot at the following location: Shelaines Restaurant, 202 Hwy 145 North, Aberdeen, Mississippi 39730, Phone: 662-369-3352.

Kimberly D. Bose,
Secretary.

[FR Doc. E8-2118 Filed 2-5-08; 8:45 am]

BILLING CODE 6717-01-P